DEPARTMENT OF AGRICULTURE

Animal and Plant Health Inspection Service

7 CFR Part 301

[Docket No. APHIS-2013-0004]

Asian Longhorned Beetle; Quarantined Areas in Ohio

AGENCY: Animal and Plant Health Inspection Service, USDA.

ACTION: Affirmation of interim rule as final rule.

SUMMARY: We are adopting as a final rule, without change, an interim rule that amended the Asian longhorned beetle regulations by adding a portion of Clermont County, OH, to the list of quarantined areas and restricting the interstate movement of regulated articles from that area. The interim rule was necessary to prevent the artificial spread of the Asian longhorned beetle to noninfested areas of the United States.

DATES: Effective on April 17, 2014, we are adopting as a final rule the interim rule published at 78 FR 27853-27855 on May 13, 2013.

FOR FURTHER INFORMATION CONTACT: Ms. Claudia Ferguson, Senior Regulatory Policy Coordinator, Regulatory Coordination and Compliance, PPQ, APHIS, 4700 River Road, Unit 133, Riverdale, MD 20737-1236; (301) 851-2352.

SUPPLEMENTARY INFORMATION:

Background

The Asian longhorned beetle (ALB, Anoplophora glabripennis), an insect native to China, Japan, Korea, and the Isle of Hainan, is a destructive pest of hardwood trees. The ALB regulations in 7 CFR 301.51-1 through 301.51-9 (referred to below as the regulations) restrict the interstate movement of regulated articles from quarantined areas to prevent the artificial spread of ALB to noninfested areas of the United States.

In an interim rule ¹ effective and published in the Federal Register on May 13, 2013 (78 FR 27853-27855, Docket No. APHIS-2013-0004), we amended § 301.51-3(c) by adding a portion of Clermont County, OH, to the list of quarantined areas.

¹ To view the interim rule and its supporting economic analysis, go to http://www.regulations.gov/#!docketDetail;D=APHIS-2013-0004.

Comments on the interim rule were required to be received on or before July 12, 2013. We received no comments by that date. Therefore, for the reasons given in the interim rule, we are adopting the interim rule as a final rule without change.

This action also affirms the information contained in the interim rule concerning Executive Orders 12866, 12372, and 12988 and the Paperwork Reduction Act.

Further, for this action, the Office of Management and Budget has waived its review under Executive Order 12866.

Regulatory Flexibility Act

This rule affirms an interim rule that amended the regulations by adding a portion of Clermont County, OH, to the list of quarantined areas and restricted the interstate movement of regulated articles from that area because of ALB.

In accordance with 5 U.S.C. 604, we have performed a final regulatory flexibility analysis, which is summarized below, regarding the economic effects of this rule on small entities. Copies of the full analysis are available on the Regulations.gov Web site (see footnote 1 in this document for a link to Regulations.gov) or by contacting the person listed under FOR FURTHER INFORMATION CONTACT.

In Ohio, entities likely to be affected by the interim rule include landscape companies, tree service companies, and waste haulers. Other types of businesses that may be impacted could include firewood dealers, trucking companies, construction companies, excavators, or property management companies. Additional costs of operating such businesses under ALB quarantine are small, and principally derive from self-inspection and certification of regulated material under compliance agreements. Most if not all of the businesses that were affected by the interim rule in Ohio are small entities.

List of Subjects in 7 CFR Part 301

Agricultural commodities, Plant diseases and pests, Quarantine, Reporting and recordkeeping requirements, Transportation.

PART 301—DOMESTIC QUARANTINE NOTICES

Accordingly, we are adopting as a final rule, without change, the interim rule that amended 7 CFR part 301 and that was published at 78 FR 27853-27855 on May 13, 2013.

Done in Washington, DC, this 14th day of April 2014.
Kevin Shea,
Administrator, Animal and Plant Health Inspection Service.

[FR Doc. 2014-08720 Filed 4-16-14; 8:45 am]

BILLING CODE 3410-34-P